DEPARTMENT OF AGRICULTURE

Forest Service

Dakota Prairie Grasslands; North Dakota; Environmental Impact Statement for the Greater Sage-Grouse Grasslands Plan Amendment; Withdrawal

AGENCY: Forest Service, Agriculture (USDA).

ACTION: Notice; withdrawal.

SUMMARY: The Forest Service is withdrawing its notice of intent to prepare an environmental impact statement for the greater sage-grouse plan amendment to the Dakota Prairie Grasslands Land and Resource Management Plan.

FOR FURTHER INFORMATION CONTACT: Questions concerning this notice should be directed to LeAnn Colburn via U.S. postal mail at Dakota Prairie Grasslands Supervisors Office, 2000 Miriam Circle, Bismarck, ND 58501; via telephone at 701-989-7304; or via email at leann.colburn@usda.gov.

Individuals who use telecommunications devices for the hearing impaired may call 711 to reach the Telecommunications Relay Service, 24 hours a day, every day of the year, including holidays.

SUPPLEMENTARY INFORMATION: The Forest Service published a notice of intent prepare an environmental impact statement (NOI) in the Federal Register on May 21, 2014, 88 FR 29158.

Since that publication, there have been two significant changes in circumstance for the greater sage-grouse:

• In 2020 Oil and Gas Supplemental Environmental Impact Statement (https://www.fs.usda.gov/internet/FSE_DOCUMENTS/fseprd1082964.pdf) created no-surface occupancy in greater sage-grouse habitat on the Dakota Prairie Grasslands removing one of the primary threats; and

• The U.S. Fish and Wildlife Service determined in 2015 that protections under the Endangered Species Act were not needed for the species.

Therefore, the Forest Service is withdrawing the NOI.

JoLynn Anderson,
Agency Federal Register Officer.

[FR Doc. 2025-04390 Filed 3-20-25; 8:45 am]

BILLING CODE 3411-15-P